DEPARTMENT OF HEALTH AND HUMAN SERVICES

Centers for Disease Control and Prevention

[30Day-21-1182]

Agency Forms Undergoing Paperwork Reduction Act Review

In accordance with the Paperwork Reduction Act of 1995, the Centers for Disease Control and Prevention (CDC) has submitted the information collection request titled “Formative Research to Develop HIV Social Marketing Campaigns for Healthcare Providers” to the Office of Management and budget (OMB) for review and approval. CDC previously published a “Proposed Data Collection Submitted for Public Comment and Recommendations” notice on March 8, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Formative Research to Develop HIV Social Marketing Campaigns for Healthcare Providers (OMB Control No. 0920-1182)—Reinstatement without Change—National Center for HIV/AIDS, Viral Hepatitis, STD and TB Prevention (NCHHSTP), Centers for Disease Control and Prevention (CDC).

Background and Brief Description

To address the HIV epidemic in the U.S., the Department of Health and Human Services launched Ending the HIV Epidemic: A Plan for America, which is a cross-agency initiative aiming to reduce new HIV infections in the U.S. by 90% by 2030. CDC's Let's Stop HIV Together campaign (formerly known as Act Against AIDS) is part of the national Ending the HIV Epidemic initiative and includes resources aimed at reducing HIV stigma and promoting testing, prevention, and treatment across the HIV care continuum.

Within this context, CDC's Division of HIV/AIDS Prevention (DHAP) has, and will continue implementing various communication initiatives to increase healthcare providers' awareness of HIV testing-, prevention- and treatment-related topics; reduce new HIV infections among disproportionately impacted populations; and improve health outcomes for people living with HIV/AIDS in the US and its territories. Specifically, the initiatives target healthcare providers, including primary care, and relevant specialties such as HIV medicine and infectious disease, physicians, physician assistants, and nurses.

The rounds of data collection include exploratory, message testing, concept testing, and materials testing. Information collected by DHAP will be used to assess healthcare providers' informational needs about topics related to HIV testing, prevention, and treatment; pre-test campaign-related messages, concepts, and materials; and evaluate the extent to which the communication initiatives are reaching the target audiences and providing them with trusted HIV-related information. Data collections will include in-depth interviews and brief surveys. The data gathered under this request will be summarized in reports prepared for CDC by its contractor, such as quarterly and annual reports and topline reports that summarize results from each data collection. It is possible that data from this project will be published in peer-reviewed manuscripts or presented at conferences, and the manuscripts and conference presentations may appear on the internet.

The total estimated annualized burden hours are 902. Participation of respondents is voluntary, and there is no cost to participants other than their time.

Estimated Annualized Burden Hours
Type of respondent | Form name | Number of respondents | Number of responses per respondent | Average burden per response (in hours)
Health care providers | Study screener | 1,138 | 1 | 10/60
| Web-based survey | 569 | 1 | 15/60
| Exploratory Guide—Prevention with Positives In-depth Interview | 95 | 1 | 1
| Exploratory Guide—Patient Centered Care In-depth Interview | 95 | 1 | 1
| Exploratory Guide—HIV Prevention In-depth Interview | 95 | 1 | 1
| Message Testing In-depth Interview Guide | 95 | 1 | 1
| Concept Testing In-depth Interview Guide | 95 | 1 | 1
| Materials Testing In-depth Interview | 95 | 1 | 1

Jeffrey M. Zirger,
Lead, Information Collection Review Office, Office of Scientific Integrity, Office of Science, Centers for Disease Control and Prevention.

[FR Doc. 2021-18540 Filed 8-26-21; 8:45 am]

BILLING CODE 4163-18-P